INTERNATIONAL TRADE COMMISSION

[Investigation No. 337-TA-646]

In the Matter of Certain Power Supplies; Notice of Commission Determination Not To Review an Initial Determination Granting Complainants' Motion To Amend the Complaint and Notice of Investigation To Add a Respondent

AGENCY: U.S. International Trade Commission.

ACTION: Notice.

SUMMARY: Notice is hereby given that the U.S. International Trade Commission has determined not to review the presiding administrative law judge's (“ALJ”) initial determination (“ID”) (Order No. 5) granting complainant's motion to amend the complaint and notice of investigation.

FOR FURTHER INFORMATION CONTACT: Megan M. Valentine, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 8, 2008, based on a complaint filed by Ultra Products, Inc. of Fletcher, Ohio and Systemax Inc. of Port Washington, New York (collectively “Ultra”). 73 FR 26144-5 (May 8, 2008). The complaint, as amended and supplemented, alleges violations of section 337 of the Tariff Act of 1930, as amended, 19 U.S.C. 1337, in the importation into the United States, the sale for importation, and the sale within the United States after importation of certain power supplies by reason of infringement of certain claims of U.S. Patent No. 7,133,293. The complaint further alleges the existence of a domestic industry. The Commission's notice of investigation named Aerocool Advanced Technologies Corporation of Taipei Hsien, Taiwan; Langears, Inc. d/b/a Aerocool U.S. of Fremont, California; Andyson International Co. of Taipei, Taiwan; Atng Power Co., Ltd. a/k/a I Horng, Power Co., Ltd. of Taipei Hsien, Taiwan; Coolmax Technology Inc. of Taipei, Taiwan; Enermax Technology Corporation of Taoyuan, Taiwan; Enermax USA Corporation of City of Industry, California; High Performance Enterprise PLC, d/b/a High Performance Group or Hiper Group of Milton Keynes, United Kingdom; High Performance Group Inc., d/b/a Hight Performance Group or Hiper Group of San Mateo, California; KWI Technology Inc. d/b/a Kingwin of City of Industry California; San Hawk Technic Co. Ltd., a/k/a Sky Hawk Group of Taipei Taiwan; Eagle Technology Inc., a/k/a Sky Hawk USA or Eagle Tech of City of Industry, California; Sunbearn Company of Taipei City, Taiwan; and Sunbearntech, Inc. of Hacienda Heights, California as respondents.

On May 20, 2008, Ultra filed a motion for leave to amend the complaint and notice of investigation to add a respondent, Super Flower Computer, Inc. (“Super Flower”). On June 11, 2008, the IA filed a response in support of the motion.

On June 27, 2008, the ALJ issued the subject ID granting the motion, finding that, pursuant to Commission Rule 210.14(b)(1) (19 CFR 210.14(b)(1)), there was good cause to add Super Flower as a respondent. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: July 16, 2008.
Marilyn R. Abbott,
Secretary to the Commission.

[FR Doc. E8-16628 Filed 7-18-08; 8:45 am]

BILLING CODE 7020-02-P